DEPARTMENT OF TRANSPORTATION

Federal Aviation Administration

Notice of Intent to Rule on Application To Impose and Use the Revenue From a Passenger Facility Charge (PFC) at Cleveland Hopkins International Airport, Cleveland, OH

AGENCY: Federal Aviation Administration (FAA), DOT.

ACTION: Notice of intent to rule on application.

SUMMARY: The FAA proposes to rule and invites public comment on the application to impose and use the revenue from a PFC at Cleveland Hopkins International Airport under the provisions of the Aviation Safety and Capacity Expansion Act of 1990 (Title IX of the Omnibus Budget Reconciliation Act of 1990) (Pub. L. 101-508) and part 158 of the Federal Aviation Regulations (14 CFR part 158).

DATES: Comments must be received on or before November 1, 2001.

ADDRESSES: Comments on this application may be mailed or delivered in triplicate to the FAA at the following address: Federal Aviation Administration, Detroit Airports District Office, Willow Run Airport, East, 8820 Beck Road Belleville, Michigan 48111 (734-487-7282). The application may be review in person at this location.

In addition, one copy of any comments submitted to the FAA must be mailed or delivered to Mr. Reuben Sheperd, Director, Cleveland Hopkins International Airport at the following address: Cleveland Hopkins International Airport, 5300 Riverside Drive, Cleveland, Ohio 44135.

Air carriers and foreign air carriers may submit copies of written comments previously provided to the Cleveland Hopkins International Airport under § 158.23 of part 158.

FOR FURTHER INFORMATION CONTACT: Ms. Arlene B. Draper, Program Manager, Federal Aviation Administration, Detroit Airports District Office, Willow Run Airport, East, 8820 Beck Road Belleville, Michigan 48111 (734-487-7282). The application may be reviewed in person at this same location.

SUPPLEMENTARY INFORMATION: The FAA proposes to rule and invites public comment on the application to impose and use the revenue from a PFC at Cleveland Hopkins International Airport under the provisions of the Aviation Safety and Capacity Expansion Act of 1990 (Title IX of the Omnibus Budget Reconciliation Act of 1990) (Public Law 101-508) and Part 158 of the Federal Aviation Regulations (14 CFR Part 158).

On September 6, 2001, the FAA determined that the application to impose and use the revenue from a PFC submitted by Cleveland Hopkins International Airport was substantially complete within the requirements of § 158.25 of part 158. The FAA will approve or disapprove the application, in whole or in part, not later than December 29, 2001.

The following is a brief overview of the application.

PFC application number: 01-08-C-00-CLE.

Level of the proposed PFC: $3.00.

Proposed charge effective date: October 1, 2004.

Proposed charge expiration date: November 1, 2008.

Total estimated PFC revenue: $82,106,000.00.

Brief description of proposed project: Construct Runway 6L/23R.

Class or classes of air carriers which the public agency has requested to be required to collect PFCs: air taxis.

Any person may inspect the application in person at the FAA office listed above under FOR FURTHER INFORMATION CONTACT.

In addition, any person may, upon request, inspect the application, notice and other documents germane to the application in person at the Cleveland Hopkins International Airport, 5300 Riverside Drive, Cleveland, Ohio 44135.

Issued in Des Plaines, Illinois on September 17, 2001.
Gary E. Nielsen,
Acting Manager, Planning and Programming Branch, Airports Division, Great Lakes Region.

[FR Doc. 01-24613 Filed 10-1-01; 8:45 am]

BILLING CODE 4910-13-M